DEPARTMENT OF JUSTICE

Federal Bureau of Investigation

FBI Criminal Justice Information Services Division User Fee Schedule

AGENCY: Federal Bureau of Investigation (FBI), Justice.

ACTION: Notice.

SUMMARY: The FBI is authorized to establish and collect fees for providing fingerprint-based and name-based criminal history record information (CHRI) checks submitted by authorized users for noncriminal justice purposes including employment and licensing. A portion of the fee is intended to reimburse the FBI for the cost of providing fingerprint-based and name-based CHRI checks (“cost reimbursement portion” of the fee). The FBI is also authorized to charge an additional amount to defray expenses for the automation of fingerprint identification and criminal justice information services and associated costs (“automation portion” of the fee). This notice provides the revised fee schedule.

DATES: This revised fee schedule is effective January 1, 2025.

FOR FURTHER INFORMATION CONTACT: Ms. Cynthia D. Harris, Chief, Financial Management Unit, Resources Management Section, Criminal Justice Information Services (CJIS) Division, FBI, 1000 Custer Hollow Road, Module D-3, Clarksburg, WV 26306. Telephone number 304-625-4152.

SUPPLEMENTARY INFORMATION: Pursuant to the authority in Public Law 101-515, as amended and codified at 34 United States Code (U.S.C.) section 41104, the FBI has established user fees for authorized agencies requesting noncriminal justice fingerprint-based and name-based CHRI checks. These noncriminal justice, fingerprint-based CHRI checks are performed for noncriminal justice, non-law enforcement employment and licensing purposes, and for certain employees of private sector contractors with classified government contracts. The noncriminal justice, name-based CHRI checks are biographic checks of the biometric system limited to those agencies authorized via 5 U.S.C. 9101, Security Clearance Information Act of 1985.

In accordance with the requirements of Title 28, Code of Federal Regulations (CFR), section 20.31(e), the FBI periodically reviews the process of providing fingerprint-based and name-based CHRI checks to determine the proper fee amounts which should be collected, and the FBI publishes any resulting fee adjustments in the Federal Register.

A fee study was conducted in keeping with 28 CFR 20.31(e)(2) and employed the methodology detailed in Federal Register notices 75 FR 18751 and 83 FR 48335. The fee study results recommended a decrease in the fingerprint-based and name-based CHRI checks from the current user fees published in the Federal Register on August 4, 2022 (87 FR 47794), which have been in effect since October 1, 2022. The FBI reviewed the results of the independently conducted User Fee Study, compared the recommendations to the current fee schedule, and determined the revised fee recommendation amounts for both the cost reimbursement portion and automation portion of the fee were reasonable and in consonance with the underlying legal authorities.

Pursuant to the recommendations of the study, the fees for fingerprint-based CHRI checks will be decreased and the fee for name-based CHRI checks will also decrease for federal agencies specifically authorized by statute, e.g., pursuant to 5 U.S.C. 9101, Security Clearance Information Act of 1985.

The following tables detail the fee amounts for authorized users requesting fingerprint-based and name-based CHRI checks for noncriminal justice purposes, including the difference from the fee schedule currently in effect.

Fingerprint-Based CHRI Checks
Service | Fee currently in effect | Fee currently in effect for CBSPs ¹ | Change in fee amount | Revised fee | Revised fee for CBSPs
Fingerprint-based Submission | $13.25 | $11.25 | ($1.25) | $12.00 | ² $10.00
Fingerprint-based Volunteer Submission ³ | 11.25 | 9.25 | (1.25) | 10.00 | ⁴ 8.00
¹ Centralized Billing Service Providers, see 75 FR 18753.
² Cost Recovery = $3; Automation = $7.
³ Volunteers providing care for children, the elderly, or individuals with disabilities. See e.g., 75 FR 18752, 83 FR 48335.
⁴ Cost Recovery = $3; Automation = $5.

Name-Based CHRI Checks
Service | Fee currently in effect | Change in fee amount | Revised fee
Name-based Submission | $2.00 | ($1.00) | $1.00

Dated: August 14, 2024.
Christopher A. Wray,
Director.

[FR Doc. 2024-19094 Filed 8-27-24; 8:45 am]

BILLING CODE 4410-02-P